ELECTION ASSISTANCE COMMISSION

Sunshine Act Meetings

AGENCY: U.S. Election Assistance Commission.

ACTION: Sunshine Act notice; notice of public meeting agenda.

SUMMARY: Public meeting: U.S. Election Assistance Commission.

DATES: Wednesday, August 2, 2023, 1:00 p.m. EST.

ADDRESSES: The Election Assistance Commission hearing room at 633 3rd St. NW, Washington, DC 20001. The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting to discuss voter education and engagement.

Agenda: The U.S. Election Assistance Commission (EAC) will host a public meeting to discuss topics such as voter education research and ideas for 2024, the EAC and poll worker recruitment, as well as innovation in voter outreach and engagement.

The agenda includes panel discussions with representatives from the EAC, election administrators, and subject matter experts. Panelists will give remarks and respond to questions from the EAC Commissioners.

The full agenda will be posted in advance on the events page of the EAC website: https://www.eac.gov/events.

Background: The Help America Vote Act of 2002 (HAVA) charged the EAC to improve election administration and serve as a primary source of best practices and election information, such as poll worker recruitment.

Status: This meeting will be open to the public.

Camden Kelliher,
Senior Associate Counsel, U.S. Election Assistance Commission.

[FR Doc. 2023-15372 Filed 7-17-23; 11:15 am]

BILLING CODE 4810-71-P